FEDERAL COMMUNICATIONS COMMISSION

47 CFR Part 2

[ET Docket No. 04-139; FCC 05-70]

WRC-03 Omnibus

AGENCY: Federal Communications Commission.

ACTION: Correcting amendments.

SUMMARY: This document contains corrections to the final regulations, which were published in the Federal Register on Wednesday, August 10, 2005 (70 FR 46576). The Commission published final rules in the Report and Order, which implemented allocation changes to the frequency range between 5900 kHz and 27.5 GHz in furtherance of decisions that were made at the World Radiocommunication Conference (Geneva 2003). This document contains corrections to 47 CFR 2.106.

DATES: Effective September 9, 2005.

FOR FURTHER INFORMATION CONTACT: Tom Mooring, Office of Engineering and Technology, (202) 418-2450, e-mail: Tom.Mooring@fcc.gov.

SUPPLEMENTARY INFORMATION:

Background

The final regulations that are the subject of this correction relate to final rules in the Report and Order, which implemented allocation changes to the frequency range between 5900 kHz and 27.5 GHz in furtherance of decisions that were made at the World Radiocommunication Conference (Geneva 2003), under § 2.106 of the rules.

Need for Correction

As published, the final regulations contain errors, which require immediate correction.

List of Subjects in 47 CFR Part 2

Radio, Telecommunications.

Accordingly, 47 CFR part 2 is corrected by making the following correcting amendments:

PART 2—FREQUENCY ALLOCATIONS AND RADIO TREATY MATTERS

1. The authority citation for part 2 continues to read as follows:

Authority: 47 U.S.C. 154, 302a, 303, and 336, unless otherwise noted.

2. Section 2.1 is amended by removing the second definition of “Administration” in paragraph (c).

Federal Communications Commission.
Marlene H. Dortch,
Secretary.

[FR Doc. 06-2871 Filed 3-28-06; 8:45 am]

BILLING CODE 6712-01-P